SMALL BUSINESS ADMINISTRATION

[Declaration of Economic Injury Disaster #9I06, Amdt. #1]

State of Alaska

The above-numbered Declaration is hereby amended to include the Regional Educational Attendance Area #45, Southwest Region (previously referred to as REAA #6), as a contiguous area as a result of a fishery resource disaster, as determined by the Secretary of Commerce, due to extremely low salmon returns beginning in 1997 and continuing.

All other information remains the same, i.e., applications for economic injury may be filed until May 9, 2001.

(Catalog of Federal Domestic Assistance Program No. 59002.)

Dated: August 16, 2000.
Kris Swedin,
Acting Administrator.

[FR Doc. 00-21621 Filed 8-23-00; 8:45 am]

BILLING CODE 8025-01-P